DEPARTMENT OF COMMERCE

National Oceanic and Atmospheric Administration

Agency Information Collection Activities; Submission to the Office of Management and Budget (OMB) for Review and Approval; Comment Request; Implementation of Vessel Speed Restrictions To Reduce the Threat of Ship Collisions With North Atlantic Right Whales

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 22, 2021 (86 FR 15202) during a 60-day comment period. This notice allows for an additional 30 days for public comments.

Agency: National Oceanic and Atmospheric Administration, Commerce.

Title: Implementation of Vessel Speed Restrictions To Reduce the Threat of Ship Collisions With North Atlantic Right Whales.

OMB Control Number: 0648-0580.

Form Number(s): None.

Type of Request: Regular submission [revision of a currently approved collection].

Number of Respondents: 3,624.

Average Hours per Response: One hour for electronic surveys, 2.5 hours for focus groups, 5 minutes for logbook entries.

Total Annual Burden Hours: 674.

Needs and Uses: This request is for a revision to a currently approved information collection. On October 10, 2008, NMFS published a final rule (0648-AS36) implementing seasonal speed restrictions along the east coast of the U.S. to reduce the incidence and severity of vessel collisions with North Atlantic right whales (73 FR 60173). The final rule contained a mandatory collection-of-information requirement subject to the Paperwork Reduction act (PRA), which collects information about safety deviations from the rule in alignment with 50 CFR 224.105(c). The restrictions are in effect seasonally in discrete areas along the U.S. eastern seaboard. NMFS provided a safety exception to the restrictions due to poor weather or sea conditions. Ships' captains are required to make an entry into the vessel's Official Logbook when an exception is necessary.

This revision to the current information collection includes a voluntary survey effort of vessel operators to evaluate their ability and willingness to: (1) Comply with North Atlantic right whale mandatory speed restrictions, and (2) cooperate with voluntary speed reduction efforts to protect North Atlantic right whales, which are promoted through NMFS outreach efforts. We will collect information from two types of vessels (pleasure yachts and large ocean going vessel) in two different areas of the North Atlantic right whales' range using voluntary online surveys and small focus groups. The surveys will collect information about vessel operators time spent on the water, experience and knowledge about large whales, knowledge of North Atlantic vessel strike reduction efforts, opinions about these whales and conservation efforts, and their preferred means of receiving information. Results from this information collection will be used to develop effective outreach to these vessel communities, with the long-term goal of improving the communities' compliance with mandatory measures and cooperation with voluntary measures that support North Atlantic right whale vessel strike reduction conservation efforts.

Affected Public: Individuals or households; Business or other for-profit organizations.

Frequency: One time for electronic surveys and focus groups, logbook entries on occasion as necessary.

Respondent's Obligation: Voluntary.

Legal Authority: US Code: 16 U.S.C. 1531-1543 Name of Law: Endangered Species Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0580.

Sheleen Dumas,
Department PRA Clearance Officer, Office of the Chief Information Officer, Commerce Department.

[FR Doc. 2021-20423 Filed 9-20-21; 8:45 am]

BILLING CODE 3510-22-P